COMMISSION ON CIVIL RIGHTS

Sunshine Act Notice

Date and Time: Friday, April 8, 2005, 9:30 a.m.

Place: U.S. Commission on Civil Rights, 624 9th Street, NW., Room 540, Washington, DC 20425.

Status:

Agenda

I. Approval of Agenda.

II. Approval of Minutes of March 18, 2005, meeting.

III. Announcements.

IV. Staff Director's Report.

V. Management and Operations.

VI. Report of the Working Group on Reform.

VIII. Program Planning.

• Consideration of proposals for projects to be undertaken by the Commission during FY 2005, 2006 and 2007.

VII. Future Agenda Items.

Contact Person for Further Information: Kenneth L. Marcus, Press and Communications, (202) 376-7700.

Emma Monroig,
Solicitor.

[FR Doc. 05-6535 Filed 3-29-05; 4:50 pm]

BILLING CODE 6335-01-M